COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add product and service to the Procurement List that will be furnished by nonprofit agencies employing persons who are blind or have other severe disabilities, and deletes product previously furnished by such agencies.

DATES: Comments must be received on or before 11/26/2017.

ADDRESSES: Committee for Purchase from People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product

NSN—Product Name: 2540-00-678-3469—Chock, Wheel-Track, Wood, 9.5″ x 8″

Mandatory Source of Supply: NewView Oklahoma, Inc., Oklahoma City, OK

Contracting Activity: Defense Logistics Agency, DLA Land and Maritime

Mandatory for 100% of the requirement of the Department of Defense

Service

Service Type/Location: Janitorial Service, Federal Aviation Administration, Albany System Service Center, Albany ATCT & Base Building, Albany, GA

NPA: Power Works Industries, Inc., Columbus, GA

Contracting Activity: Federal Aviation Administration, Albany, GA

Deletions

The following product is proposed for deletion from the Procurement List:

Products

NSN—Product Name: 5340-01-259-4151—Clamp, Loop AQL Inspection

Mandatory Source of Supply: Provail, Seattle, WA

Contracting Activity: DLA Troop Support, Philadelphia, PA

Patricia Briscoe,
Deputy Director, Business Operations (Pricing and Information Management).

[FR Doc. 2017-23406 Filed 10-26-17; 8:45 am]

BILLING CODE 6353-01-P